DEPARTMENT OF COMMERCE

International Trade Administration

A-552-801

Certain Frozen Fish Fillets from the Socialist Republic of Vietnam: Final Results and Partial Rescission of New Shipper Reviews

AGENCY: Import Administration, International Trade Administration, Department of Commerce.

EFFECTIVE DATE: June 30, 2008.

FOR FURTHER INFORMATION CONTACT: Julia Hancock, AD/CVD Operations, Office 9, Import Administration, International Trade Administration, U.S. Department of Commerce, 14th Street and Constitution Avenue, NW, Washington, DC 20230; telephone: (202) 482-1394.

SUPPLEMENTARY INFORMATION:

Case History

On February 1, 2008, the Department of Commerce (the “Department”) published in the Federal Register the preliminary results of these new shipper reviews of the antidumping duty order (“Order”) on certain frozen fish fillets from the Socialist Republic of Vietnam (“Vietnam”). See Certain Frozen Fish Fillets From the Socialist Republic of Vietnam: Partial Rescission and Preliminary Results of the First New Shipper Reviews, 73 FR 6119 (February 1, 2008) (“Preliminary Results”); Notice of Antidumping Duty Order: Certain Frozen Fish Fillets from the Socialist Republic of Vietnam, 68 FR 47909 (August 12, 2003) (“Order”). The Preliminary Results were announced to interested parties on January 22, 2008. Since the Preliminary Results, the following events have occurred.

On January 30, 2008, Vinh Quang Fisheries Co., Ltd. (“Vinh Quang”) filed comments on the Department's preliminary rescission of Vinh Quang/New Century's¹ new shipper review. Additionally, on February 12, 2008, the Catfish Farmers of America (“Petitioners”) submitted rebuttal comments regarding Vinh Quang/New Century's preliminary results comments. On February 13, 2008, Vinh Quang/New Century submitted rebuttal comments to Petitioners' February 12, 2008, letter. On February 28, 2008, the Department issued a memorandum regarding its analysis of the post-preliminary results of Vinh Quang/New Century. In the post-preliminary results memorandum, the Department reversed its preliminary decision to rescind the new shipper review for Vinh Quang/New Century and calculated an antidumping duty margin for Vinh Quang/New Century for purposes of providing all parties an opportunity to comment on a calculated antidumping duty margin prior to the final results. See Memorandum to the File, through James C. Doyle, Director, Office 9, and Alex Villanueva, Program Manager, Office 9, from Julia Hancock, Senior Analyst, Office 9, Subject: Post-Preliminary Results Analysis of Vinh Quang/New Century” (February 28, 2008) (“VQ Post-Prelim Rescission Memo”).

¹ In the Preliminary Results, we found that Vinh Quang and New Century Trading Company (“New Century”) should be treated as a single entity for purposes of this new shipper review. No party has challenged this for the final results and we will continue to treat Vinh Quang/New Century as a single entity for the final results, pursuant to 19 CFR 351.401(f). Accordingly, for the entirety of this notice, Vinh Quang and New Century will be known as “Vinh Quang/New Century.”

On April 10, 2008, Petitioners, Anvifish Co., Ltd. (“Anvifish”), Ngoc Thai Company, Ltd. (“Ngoc Thai”), and Vinh Quang/New Century submitted case briefs. Also on April 15, 2008, Petitioners, Anvifish, and Vinh Quang/New Century submitted rebuttal briefs. On May 20, 2008, the Department extended the time limit for completion of the final results of these new shipper reviews by 60 days. See Certain Frozen Fish Fillets from the Socialist Republic of Vietnam: Extension of Time Limit for Final Results of the New Shipper Reviews, 73 FR 29111 (May 20, 2008).

Period of Review

The period of review (“POR”) is August 1, 2006, through January 31, 2007.

Scope of the Order

The product covered by this order is frozen fish fillets, including regular, shank, and strip fillets and portions thereof, whether or not breaded or marinated, of the species Pangasius Bocourti, Pangasius Hypophthalmus (also known as Pangasius Pangasius), and Pangasius Micronemus. Frozen fish fillets are lengthwise cuts of whole fish. The fillet products covered by the scope include boneless fillets with the belly flap intact (“regular” fillets), boneless fillets with the belly flap removed (“shank” fillets), boneless shank fillets cut into strips (“fillet strips/finger”), which include fillets cut into strips, chunks, blocks, skewers, or any other shape. Specifically excluded from the scope are frozen whole fish (whether or not dressed), frozen steaks, and frozen belly-flap nuggets. Frozen whole dressed fish are deheaded, skinned, and eviscerated. Steaks are bone-in, cross-section cuts of dressed fish. Nuggets are the belly-flaps.

The subject merchandise will be hereinafter referred to as frozen “basa” and “tra” fillets, which are the Vietnamese common names for these species of fish. These products are classifiable under tariff article codes 1604.19.4000, 1604.19.5000, 0305.59.4000, 0304.29.6033 (Frozen Fish Fillets of the species Pangasius including basa and tra) of the Harmonized Tariff Schedule of the United States (“HTSUS”).² This order covers all frozen fish fillets meeting the above specification, regardless of tariff classification. Although the HTSUS subheading is provided for convenience and customs purposes, our written description of the scope of the order is dispositive.

² Until July 1, 2004, these products were classifiable under tariff article codes 0304.20.60.30 (Frozen Catfish Fillets), 0304.20.60.96 (Frozen Fish Fillets, NESOI), 0304.20.60.43 (Frozen Freshwater Fish Fillets) and 0304.20.60.57 (Frozen Sole Fillets) of the HTSUS. Until February 1, 2007, these products were classifiable under tariff article code 0304.20.60.33 (Frozen Fish Fillets of the species Pangasius including basa and tra) of the HTSUS.

Final Partial Rescission

In the Preliminary Results, the Department preliminarily rescinded this review with respect to Ngoc Thai. The Department found in the Preliminary Results that Ngoc Thai was affiliated and should be treated as a single entity with Thai Tan Seafood Company (“Thai Tan”), Ngoc Thu Company, Ltd. (“Ngoc Thu”), and Kim Anh Company (“Kim Anh”) (collectively, the “Kim Anh Group”), pursuant to section 771(33) of the Tariff Act of 1930, as amended (“the Act”), and 19 CFR 351.401(f)(1); see Memorandum to James C. Doyle, Director, Office 9, through Alex Villanueva, Program Manager, Office 9, from Michael Holton, Senior Case Analyst, Subject: New Shipper Review of the Antidumping Duty Order on Certain Frozen Fish Fillets from the Socialist Republic of Vietnam: Affiliation and Collapsing of Ngoc Thai Company Ltd., (January 22, 2008) (“Ngoc Thai Affiliation Memo”). Because the Department found that the Kim Anh Group, including Ngoc Thai, is a single entity, the Department preliminarily rescinded the new shipper review of Ngoc Thai because as a single entity the Kim Anh Group shipped subject merchandise over a year prior to the POR of this new shipper review. See Ngoc Thai Affiliation Memo.

We received comments with respect to our preliminary decision to rescind the new shipper review for Ngoc Thai. The Department continues to find that the deadline for requesting a new shipper review of the Kim Anh Group's first entry of subject merchandise had passed, pursuant to 19 CFR 351.214(b)(2)(iv)(A) and 19 CFR 351.214(c). Accordingly, the Department continues to find that the Kim Anh Group's request for a new shipper review of Ngoc Thai was untimely, pursuant to 19 CFR 351.214(b)(2)(iv)(A) and 19 CFR 351.214(c). See Comment 7 of the “Issues and Decision Memorandum for the Final Results and Partial Rescission of the First New Shipper Review: Certain Frozen Fish Fillets from the Socialist Republic of Vietnam” (“Issues and Decision Memorandum”) accompanying this notice for a detailed discussion of our decision with respect to Ngoc Thai. Because the Kim Anh Group shipped subject merchandise over a year prior to the POR of this new shipper review, the Department is rescinding Ngoc Thai's new shipper review. See 19 CFR 351.214(c).

Separate Rates

In the Preliminary Results, we determined that one new shipper, Anvifish, met the criteria for the assignment of a separate rate. See Preliminary Results, 73 FR at 6123. Additionally, in the VQ Post-Prelim Rescission Memo, where we reversed our preliminary decision to rescind the new shipper review for Vinh Quang/New Century, we also determined that Vinh Quang/New Century met the criteria for the assignment of a separate rate. See Memorandum to the File, through Alex Villanueva, Program Manager, from Julia Hancock, Senior Analyst, Subject: 1st New Shipper Review of Certain Frozen Fish Fillets from the Socialist Republic of Vietnam: Analysis for Vinh Quang Fisheries Corporation (“Vinh Quang”) (February 28, 2008) at 10-12 (“Vinh Quang Post-Prelim Analysis Memo”). The Department received no comments on these issues, and we did not receive any further information since the issuance of the Preliminary Results and the VQ Post-Prelim Analysis Memo that provides a basis for the reconsideration of these determinations.

Additionally, as discussed above, the Department is not performing a separate rate analysis to determine whether the other new shipper, Ngoc Thai, is eligible for a separate rate for the final results because the Department is rescinding Ngoc Thai's request for a new shipper review. See 19 CFR 351.214(c).

Analysis of Comments Received

All issues raised in the case and rebuttal briefs by parties to this proceeding and to which we have responded are listed in the Appendix to this notice and addressed in the Issues and Decision Memorandum, which is hereby adopted by this notice. Parties can find a complete discussion of the issues raised in this administrative review and the corresponding recommendations in this public memorandum which is on file in the Central Records Unit (“CRU”), Room 1117 of the main Department building. In addition, a copy of the Issues and Decision Memorandum can be accessed directly on our website at http://ia.ita.doc.gov/. The paper copy and electronic version of the Issues and Decision Memorandum are identical in content.

Changes Since the Preliminary Results

Based on a review of the record as well as comments received from parties regarding our Preliminary Results, we have made revisions to the margin calculations for Anvifish and Vinh Quang for the final results. For all changes to the calculations for Anvifish and Vinh Quang/New Century, see the Issues and Decision Memorandum and the company-specific analysis memoranda.

Final Results of Review

We determine that the following weighted-average dumping margins exist for the period August 1, 2006, through January 31, 2007:

Certain Frozen Fish Fillets from Vietnam
Manufacturer/Exporter | Weighted-Average Margin (Percent)
Anvifish | 31.68
Vinh Quang/New Century/New Century | 15.38

Assessment Rates

Pursuant to 19 CFR 351.212(b), the Department will determine, and U.S. Customs and Border Protection (“CBP”) shall assess, antidumping duties on all appropriate entries on a per-unit basis.³ The Department intends to issue assessment instructions to CBP 15 days after the date of publication of these final results of review. For assessment purposes, where possible, we calculated importer-specific per-unit duty assessment rates for subject merchandise from Vietnam. We will instruct CBP to assess antidumping duties on all appropriate entries covered by this review.

³ We divided the total dumping margins (calculated as the difference between normal value (“NV”) and export price or constructed export price) for each importer by the total quantity of subject merchandise sold to that importer during the POR to calculate a per-unit assessment amount. We will direct CBP to assess importer-specific assessment rates based on the resulting per-unit (i.e., per-kilogram) rates by the weight in kilograms of each entry of the subject merchandise during the POR.

Cash Deposit Requirements

The following cash-deposit requirements will be effective upon publication of the final results of these new shipper reviews for all shipments of the subject merchandise entered, or withdrawn from warehouse, for consumption on or after the publication date, as provided for by section 751(a)(2)(C) of the Act: (1) for subject merchandise produced and exported by Anvifish, or produced and exported by Vinh Quang/New Century, the cash deposit rate will be the company-specific rate show above (except that if the rate for a particular company is de minimis, i.e., less than 0.5 percent, no cash deposit will be required for that company); (2) for subject merchandise exported by Anvifish but not manufactured by Anvifish, and for subject merchandise exported by Vinh Quang/New Century but not manufactured by Vinh Quang/New Century, the cash deposit rate will continue to be the Vietnam-wide rate (i.e., 63.88 percent); and (3) for subject merchandise manufactured by Anvifish or Vinh Quang/New Century, but exported by any other party, the cash deposit rate will be the rate applicable to the exporter. These cash deposit requirement will remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(2)(B), and 777(i)(1) of the Act and 19 CFR 351.214(h)(i).

Dated: June 20, 2008.
Stephen J. Claeys,
Acting Assistant Secretary for Import Administration.

Appendix I

General Issues

Comment 1: Surrogate Financial Ratios

A. Apex Foods Limited and Bionic

B. Adequate Notice

Comment 2: Clerical Error and Inflator

Comment 3: Fish Waste Surrogate Value

Comment 4: Whole Live Fish Surrogate Value

Comment 5: Conversion of Surrogate Values

Company-Specific Issues

Comment 6: Ving Quang

A. Rescission of Vinh Quang

B. Bona Fide Nature of Vinh Quang's Sale

C. U.S. Inland Freight

Comment 7: Anvifish

A. Basis of U.S. Sales

B. Bona Fide Nature of Anvifish's Sale

C. Deduction of By-products

Comment 8: Rescission of Ngoc Thai

[FR Doc. E8-14801 Filed 6-27-08; 8:45 am]

BILLING CODE 3510-DS-S